POSTAL SERVICE

Board of Governors; Sunshine Act Meeting

Time and Date: 5 p.m., Monday, July 28; and 8:30 a.m., Tuesday, July 29, 2008.

Place: Washington, DC, at U.S. Postal Service Headquarters, 475 L'Enfant Plaza, SW.

Status: Closed.

Matters To Be Considered

Monday, July 28 at 5 p.m. (Closed)

1. Financial Update.

2. Strategic Issues.

3. Financial Outlook.

4. Product Pricing.

5. Personnel Matters and Compensation Issues.

6. Governors' Executive Session—Discussion of prior agenda items and Board Governance.

Tuesday, July 29 at 8:30 a.m. (Closed)

1. Continuation of Monday's closed session agenda.

Contact Person for More Information: Julie S. Moore, Secretary of the Board, U.S. Postal Service, 475 L'Enfant Plaza, SW., Washington, DC 20260-1000, Telephone (202) 268-4800.

Julie S. Moore,
Secretary.

[FR Doc. E8-16688 Filed 7-22-08; 8:45 am]

BILLING CODE 7710-12-M